DEPARTMENT OF TRANSPORTATION

Maritime Administration

[Docket No. MARAD-2000-7951]

Information Collection Available for Public Comments and Recommendations

ACTION: Notice and request for comments.

SUMMARY: In accordance with the Paperwork Reduction Act of 1995, this notice announces the Maritime Administration's (MARAD) intentions to request approval for three years of an existing information collection entitled “Automated Mutual-Assistance Vessel Rescue System (AMVER).”

DATES: Comments should be submitted on or before November 21, 2000.

FOR FURTHER INFORMATION CONTACT: Walter Lockland, Chief, Division of Operations Support, Office of Ship Operations, 400 Seventh Street, SW, Room 2123, Washington, D.C. 20590, telephone number—202-366-5735. Copies of this collection can also be obtained from that office.

SUPPLEMENTARY INFORMATION: Title of Collection: Automated Mutual-Assistance Vessel Rescue System (AMVER).

Type of Request: Three-year approval of an existing information collection.

OMB Control Number: 2133-0025.

Form Number: CG-4796 (MA) (Rev. 8-88).

Expiration Date of Approval: Three years from the date of approval.

Summary of Collection of Information: This collection of information is used to gather information regarding the location of U.S.-flag vessels and certain other U.S. citizen-owned vessels for the purpose of Search and Rescue in the saving of lives at sea and for the marshalling of ships for National Defense and safety purposes. This collection consists of vessels that transmit their positions through the following means: (1) Electronic mail via the internet sent by satelite or HF radio; (2) AMVER/SEAS “compressed message” sent via INMARSAT-C; (3) HF telex via U.S. Coast Guard communications stations; (4) HF radio via U.S. contractual agreement with Mobile Marine Radio; (5) telex via either satelite or HF radio; and (6) telefacsimile directly to U.S. Coast Guard AMVER Operations Center. This location data is then read into a database and is accessed only by the U.S. Coast Guard and MARAD to determine the location of a particular ship.

Need and Use of the Information: This information collection is necessary for maintaining a current plot of U.S.-flag and U.S.-owned vessels in order to facilitate immediate marshalling of ships for National Defense purposes and for the purpose of maintaining a current plot for Search and Rescue purposes for safety of life at sea.

Description of Respondents: U.S.-flag and U.S. citizen-owned vessels which are required to respond under current statute and regulation.

Annual Responses: 32,480 responses.

Annual Burden: 2,598 hours.

Comments: Signed written comments should refer to the docket number that appears at the top of this document and must be submitted to the Docket Clerk, U.S. DOT Dockets, Room PL-401, 400 Seventh Street, SW, Washington, D.C. 20590. Specifically, address whether this information collection is necessary for proper performance of the function of the agency and will have practical utility, accuracy of the burden estimates, ways to minimize this burden, and ways to enhance quality, utility, and clarity of the information to be collected. All comments received will be available for examination at the above address between 10 a.m. and 5 p.m., et. Monday through Friday, except Federal Holidays. An electronic version of this document is available on the World Wide Web at http://dms.dot.gov.

By Order of the Maritime Administrator.
Dated: September 19, 2000.
Murray A. Bloom,
Acting Secretary.

[FR Doc. 00-24428 Filed 9-21-00; 8:45 am]

BILLING CODE 4910-81-P